ELECTION ASSISTANCE COMMISSION

Publication of State Plan Pursuant to the Help America Vote Act; Correction

AGENCY: U.S. Election Assistance Commission (EAC).

ACTION: Notice; correction.

SUMMARY: The U.S. Election Assistance Commission published a document in the Federal Register on February 10, 2010, concerning Puerto Rico's amended State plan. The document contained the wrong States.

FOR FURTHER INFORMATION CONTACT: Bryan Whitener, 202-566-3100.

Correction

In the Federal Register of February 10, 2010, in the FR Doc. 2010-2919, on page 6643, in the second and third column, correct the SUMMARY caption to read:

SUMMARY: Pursuant to sections 254(a)(11)(A) and 255(b) of the Help America Vote Act (HAVA), Public Law 107-252, the U.S. Election Assistance Commission (EAC) hereby causes to be published in the Federal Register changes to the HAVA State plans previously submitted by Puerto Rico.

Dated: March 2, 2010.
Thomas R. Wilkey,
Executive Director.

[FR Doc. 2010-4707 Filed 3-4-10; 8:45 am]

BILLING CODE P